DEPARTMENT OF LABOR

Employment and Training Administration

[TA-W-54,962]

Trilux Technologies, Inc., Winston-Salem, NC; Notice of Termination of Investigation

Pursuant to section 221 of the Trade Act of 1974, as amended, an investigation was initiated on May 24, 2004, in response to a petition filed by a company official on behalf of workers at Trilux Technologies, Inc., Winston-Salem, North Carolina.

The petitioner has requested that the petition be withdrawn. Consequently, the investigation has been terminated.

Signed in Washington, DC this 8th day of June, 2004.
Richard Church,
Certifying Officer, Division of Trade Adjustment Assistance.

[FR Doc. 04-14913 Filed 6-30-04; 8:45 am]

BILLING CODE 4510-30-P